DEPARTMENT OF COMMERCE

Bureau of the Census

[Docket Number 170112067-7067-01]

Limited-Access Highway Classification Codes

AGENCY: Bureau of the Census, Commerce.

ACTION: Notice and request for comment.

SUMMARY: The Bureau of the Census (U.S. Census Bureau) publishes this notice to request public comment on a proposal to change the classification of limited-access highways in the Census Bureau's Master Address File/Topologically Integrated Referencing and Encoding (MAF/TIGER) System. The change will assign all limited-access highways a MAF/TIGER Feature Classification Code (MTFCC) of S1100 (Primary Roads). Currently, the classification code for limited-access highways is either S1100 (Primary Roads) or S1200 (Secondary Roads).

DATES: Written comments must be submitted on or before May 25, 2017.

ADDRESSES: Direct all written comments regarding the MTFCC change for limited-access highways to the Geography Division, U.S. Census Bureau, 4600 Silver Hill Road, Washington, DC 20233; or by email <geo.geography@census.gov>.

FOR FURTHER INFORMATION CONTACT: Geography Division, U.S. Census Bureau, 4600 Silver Hill Road, Washington, DC 20233; or by email <geo.geography@census.gov>.

SUPPLEMENTARY INFORMATION:

A. Background

MAF/TIGER System is an abbreviation for the Master Address File/Topologically Integrated Geographic Encoding and Referencing System. It is a digital (computer-readable) geographic database that automates the mapping and related geographic activities required to support the Census Bureau's census and survey programs. The Census Bureau developed TIGER to automate the geographic support processes needed to meet the major geographic needs of the 1990 census: Producing cartographic products to support data collection and map presentations, providing geographic structure for tabulation and dissemination of the collected statistical data, assigning residential and employer addresses to the correct geographic location and relating those locations to the geographic entities used for data tabulation, and so forth. During the 1990s, the Census Bureau developed an independent Master Address File (MAF) to support field operations and allocation of housing units for tabulations. After Census 2000, both the address-based MAF and geographic TIGER databases merged to form the MAF/TIGER System. The contents of the MAF/TIGER System undergo continuous updating and are made available to the public through a variety of TIGER products such as shapefiles, geodatabases, and web map services.

B. Proposed Change

The Census Bureau publishes this notice to request public comment on a proposal to change the classification of limited-access highways in the MAF/TIGER System.

Currently, the classification code for limited-access highways is either Primary Roads (S1100) or Secondary Roads (S1200). The following is the current description of the S1100 classification:

Primary roads are generally divided, limited-access highways within the Interstate Highway System or under state management, and are distinguished by the presence of interchanges. These highways are accessible by ramps and may include some toll highways.

To clarify that limited-access highways are primary roads we have revised the description of primary roads. The current description says primary roads are generally divided, limited-access highways, while the proposed description says they are limited-access highways, divided or not. The proposed description of the S1100 classification is:

Primary roads are limited-access highways that connect to other roads only at interchanges and not at at-grade intersections. This category includes interstate highways, as well as all other highways with limited access (some of which are toll roads). Limited-access highways with only one lane in each direction, as well as those that are undivided, are also included under S1100.

The following is the current description of the S1200 classification:

Secondary roads are main arteries, usually in the U.S. highway, state highway, or county highway systems. These roads have one or more lanes of traffic in each direction, may or may not be divided, and usually have at-grade intersections with many other roads and driveways. They often have both a local name and a route number.

The proposed description makes clear that secondary roads are not limited-access highways. The proposed description is:

Secondary roads are main arteries that are not limited access, usually in the U.S. highway, state highway, or county highway systems. These roads have one or more lanes of traffic in each direction, may or may not be divided, and usually have at-grade intersections with many other roads and driveways. They often have both a local name and a route number.

Generally, only interstate highways are currently in the S1100 classification. The impetus for this change was from the United States Geological Survey (USGS) Geospatial Technical Operations Center (GTOC). USGS and the Census Bureau have a Memorandum of Understanding (MOU) for coordination and cooperation pertaining to the exchange and use of TIGER roads in The National Map. The Census Bureau delivers roads to USGS for use in The National Map and US Topo topographic maps and they provide feedback on the data. USGS proposed this change so that all limited-access highways would be classified and displayed as primary roads in their products. Both USGS GTOC and Census Geography Division agree that clarification of the definitions for S1100 and S1200 will require minimal changes to TIGER roads that are currently classified as S1200s. Since this reclassification to S1100 roads provides consistency and is in line with the current MTFCC descriptions, the Census Bureau is prepared to initiate this change, pending comments from users.

C. Request for Comment

We would like to hear from the TIGER user community about the potential impacts of this change. Please respond to any or all of the following questions:

1. Will this change have a positive or negative impact on your use of TIGER products?

2. How will this change impact the cartographic display of roads in TIGER products that you use?

3. Please describe your use of TIGER roads products and your familiarity and use of limited-access highway features.

Date: April 19, 2017.
John H. Thompson,
Director, Bureau of the Census.

[FR Doc. 2017-08320 Filed 4-24-17; 8:45 am]

BILLING CODE 3510-07-P